DEPARTMENT OF HOMELAND SECURITY

Federal Emergency Management Agency

44 CFR Part 67

[Docket No. FEMA-P-7691]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆ Elevation in feet (NAVD): Existing/ | ◆ Elevation in feet (NAVD): Modified | Communities affected
Carter Branch:
Approximately 120 feet downstream of State Highway 96 | 945 | 946 | City of Carthage.
Just upstream of East Central Avenue and Burlington Northern & Santa Fe Railway | 955 | 956
Maps are available for inspection at the Engineer's Office, 623 East 7th Street, Carthage, Missouri.
Send comments to The Honorable Kenneth Johnson, Mayor, City of Carthage, 326 Grant Street, Carthage, Missouri 64836.
Alexander Creek:
Approximately 8,025 feet upstream of Ward Road | None | 942 | Cass County (Unincorporated Areas) City of Raymore.
Approximately 5,600 feet upstream of Prairie Road | None | 1,004
East Branch South Grand River:
Approximately 9,900 feet upstream of confluence of Wolf Creek | None | 886 | Cass County (Unincorporated Areas) City of Peculiar.
Approximately 510 feet upstream of Kendall Road | None | 954
East Branch of West Fork East Creek:
At confluence with West Fork East Creek | None | 974 | Cass County (Unincorporated Areas) City of Belton.
Approximately 3,050 feet upstream of confluence with West Fork East Creek | None | 990
East Creek Tributary:
Approximately 990 feet downstream of Pickering Road | None | 918 | Cass County (Unincorporated Areas) City of Raymore.
Approximately 10,000 feet upstream of confluence of North Fork East Creek Tributary | None | 1,000
East Fork of East Tributary of East Branch South Grand River
At confluence with East Tributary of East Branch South Grand River | None | 937 | Cass County (Unincorporated Areas).
Approximately 3,250 feet upstream of 200th Street | None | 1,007
East Tributary of East Branch South Grand River:
At confluence with East Branch South Grand River | None | 889 | Cass County (Unincorporated Areas)
Approximately 2,920 feet upstream of Prairie Road | None | 993
East Tributary of Lumpkins Fork:
Approximately 4,770 feet downstream of North Madison Street | None | 954 | City of Raymore.
Approximately 40 feet upstream of 155th Street | None | 999
East Tributary of Massey Creek:
Approximately 3,225 feet downstream of Missouri Highway D | None | 944 | Cass County (Unincorporated Areas).
Approximately 85 feet upstream of Cedar Road | None | 997
Lower East Fork of East Creek Tributary:
At confluence with East Creek Tributary | None | 931 | Cass County (Unincorporated Areas) City of Raymore.
Approximately 12,800 feet upstream of U.S. Highway 71 | None | 987
Lower East Tributary of Mill Creek:
At confluence with Mill Creek | None | 885 | Cass County (Unincorporated Areas) Village of Loch Lloyd.
Approximately 8,120 feet upstream of confluence with Mill Creek | None | 937 |
Lumpkins Fork:
At 155th Street | None | 945 | Cass County (Unincorporated Areas).
Approximately 70 feet upstream of North Madison Street | None | 979 |
Massey Creek:
Approximately 5,070 feet downstream of 223rd Street | None | 904 | Cass County (Unincorporated Areas).
At State Line Road | None | 969 |
Middle East Tributary of Mill Creek:
Approximately 3,950 feet upstream of confluence with Mill Creek | None | 912 | Cass County (Unincorporated Areas) Village of Loch Lloyd.
Approximately 6,320 feet upstream of confluence with Mill Creek | None | 940 |
Mill Creek:
At County Boundary | None | 871 | Cass County (Unincorporated Areas) Village of Loch Lloyd
Approximately 95 feet downstream of 187th Street | None | 1,045 |
North Branch of Upper East Fork of East Creek Tributary:
Approximately 1,700 feet downstream of Hubach Hill Road | None | 976 | Cass County (Unincorporated Areas).
Approximately 25 feet upstream of Hubach Hill Road | None | 986 |
North Fork of East Creek Tributary:
At confluence with East Creek Tributary | None | 953 | Cass County (Unincorporated Areas).
Approximately 11,000 feet upstream of confluence with East Creek Tributary | None | 990 |
North Tributary of Wolf Creek:
Approximately 410 feet downstream of East 233rd Street | None | 927 | Cass County (Unincorporated Areas) City of Peculiar.
Approximately 40 feet upstream of East 227th Street | None | 954 |
Poney Creek:
Approximately 4,925 feet downstream of Bennett Road | None | 831 | Cass County (Unincorporated Areas) City of Freeman.
Approximately 7,550 feet upstream of Poney Creek Road | None | 849 |
Ailver Lake | None | 1,029 | City of Raymore.
South Grand River:
Approximately 5,160 feet downstream of State Highway 2 | None | 829 | Cass County (Unincorporated Areas).
Approximately 765 feet upstream of Lake Annette Road | None | 850 |
Tributary of Alexander Creek:
Approximately 1,500 feet downstream of State Highway 58 | None | 988 | Cass County (Unincorporated Areas) City of Raymore.
Approximately 85 feet upstream of State Highway 58 | None | 996 |
Upper East Fork of East Creek Tributary:
Approximately 2,685 feet downstream of Good Ranch Road | None | 947 | Cass County (Unincorporated Areas) City of Raymore.
Approximately 50 feet upstream of Hubach Hill Road | None | 993 |
Upper East Tributary of Mill Creek:
At Highland Ridge Drive | None | 933 | Cass County (Unincorporated Areas) Village of Loch Lloyd.
Approximately 5,800 feet upstream of Highland Ridge Drive | None | 988 |
West Tributary of East Branch South Grand River:
Approximately 2,095 feet downstream of East 223rd Street | None | 896 | Cass County (Unincorporated Areas).
Approximately 75 feet upstream of East 223rd Street | None | 915 |
West Tributary of Lumpkins Fork:
At 155th Street | None | 946 | Cass County (Unincorporated Areas).
Approximately 1,065 feet upstream of 155th Street | None | 998 |
Wolf Creek:
Approximately 7,100 feet upstream of confluence with East Branch South Grand River | None | 889 | Cass County (Unincorporated Areas) City of Peculiar.
Approximately 1,170 feet upstream of 233rd Street | None | 946
Unincorporated Areas of Cass County, Missouri
Maps are available for inspection at 223 Main Street, Belton, Missouri.
Send comments to The Honorable Gene Molendorp, Cass County Commissioner, 223 Main Street, Belton, Missouri 64012.
City of Belton, Cass County, Missouri
Maps are available for inspection at City Hall, 506 Main Street, Belton, Missouri.
Send comments to The Honorable Billie Pinkenpank, Mayor, City of Belton, 506 Main Street, Belton, Missouri 64012.
City of Freeman, Cass County, Missouri
Maps are available for inspection at City Hall, 105 East Main Street, Freeman, Missouri.
Send comments to The Honorable Thomas Bray, Mayor, City of Freeman, 105 East Main Street, Freeman, MO 64725.
Village of Loch Lloyd, Cass County, Missouri
Maps are available for inspection at 16750 Country Club Drive, Loch Lloyd, Missouri.
Send comments to Mr. Wayne Little, Trustee, Village of Loch Lloyd, 16750 Country Club Drive, Loch Lloyd, Missouri 64012.
City of Peculiar, Cass County, Missouri
Maps are available for inspection at City Hall, 600 Schug Avenue, Peculiar, Missouri.
Send comments to The Honorable George Lewis, Mayor, City of Peculiar, 812 South Peculiar Drive, Peculiar, Missouri 64078.
City of Raymore, Cass County, Missouri
Maps are available for inspection at City Hall, 100 Municipal Circle, Raymore, Missouri.
Send comments to The Honorable Juan Alonzo, Mayor, City of Raymore, 109 North Darrowby, Raymore, Missouri 64083.
East Branch Knob Creek:
At the confluence with Knob Creek | None | 943 | City of Pilot Knob Iron County (Unincorporated Areas).
Approximately 4,170 feet upstream of Union Pacific Railroad | None | 989 |
Knob Creek:
At the confluence with Stouts Creek | 882 | 886 | City of Ironton City of Pilot Knob Iron County (Unincorporated Areas).
Approximately 2,410 feet upstream of Mulberry Street | None | 1,012
Railroad Creek:
At the confluence with Stouts Creek | None | 895 | City of Arcadia Iron County (Unincorporated Areas).
Approximately 300 feet upstream of State Route 21 | None | 990
Shepherd Mountain Lake Creek:
At the confluence with Stouts Creek | None | 950 | Iron County (Unincorporated Areas).
Approximately 3,380 feet upstream of Guhse Lane | None | 1,051
Stouts Creek:
Approximately 4,000 feet upstream of State Route 72 | None | 862 | City of Arcadia City of Ironton Iron County (Unincorporated Areas).
Approximately 5,860 feet upstream of the confluence of Shepherd Mountain Lake Creek | None | 990
West Branch Knob Creek:
At the confluence with Knob Creek | 934 | 933 | Iron County (Unincorporated Areas).
Approximately 2,140 feet upstream of Spitzmiller Drive | None | 1,020
City of Arcadia, Iron County, Missouri
Maps are available for inspection at 150 West Orchard, Arcadia, Missouri.
Send comments to The Honorable Roy Carr, Mayor, City of Arcadia, 150 West Orchard, Arcadia, Missouri 63621.
Unincorporated Areas of Iron County, Missouri
Maps are available for inspection at 250 South Main Street, Ironton, Missouri.
Send comments to The Honorable Terry W. Nichols, Presiding Commissioner, Iron County, 250 South Main Street, Ironton, Missouri 63650.
City of Ironton, Iron County, Missouri
Maps are available for inspection at 123 North Main, Ironton, Missouri.
Send comments to The Honorable Tom Hamilton, Mayor, City of Ironton, 123 North Main, Ironton, Missouri 63650.
City of Pilot Knob, Iron County, Missouri
Maps are available for inspection at 112 South McCune Street, Pilot Knob, Missouri.
Send comments to The Honorable Maxine Dettmer, Mayor, City of Pilot Knob, 112 South McCune Street, Pilot Knob, Missouri 63663.
Big Indian Creek:
Approximately 2,800 feet upstream of State Highway 756 | 505 | 506 | Clermont County (Unincorporated Areas).
Approximately 50 feet upstream of State Highway 743 | None | 627
O'Bannon Creek:
Approximately 2,300 feet downstream of O'Bannonville Road | 603 | 606 | Clermont County (Unincorporated Areas).
Approximately 50 feet upstream of State Highway 132 | 790 | 791
Ohio River:
Approximately 0.8 mile downstream of the confluence of Pond Run | 503 | 504 | Clermont County (Unincorporated Areas) Village of Chilo, Village of Moscow, Village of Neville, Village of New Richmond.
Approximately 0.2 mile upstream of the confluence of Bullskin Creek | 508 | 509
Village of Chilo, Clermont County, Ohio
Maps are available for inspection at Permit Central, 2275 Bauer Road, Batavia, Ohio.
Send comments to The Honorable Thomas O'Brien, Mayor, Village of Chilo, 308 Washington Street, Chilo, Ohio 45112.
Unincorporated Areas of Clermont County, Ohio
Maps are available for inspection at Permit Central, 2275 Bauer Road, Batavia, Ohio.
Send comments to The Honorable Bob Proud, Clermont County, Board of Commissioners, 101 East Main Street, Batavia, Ohio 45103.
Village of Moscow, Clermont County, Ohio
Maps are available for inspection at Permit Central, 2275 Bauer Road, Batavia, Ohio.
Send comments to The Honorable Timothy D. Suter, Mayor, Village of Moscow, 79 Elizabeth Street, Moscow, Ohio 45153.
Village of Neville, Clermont County, Ohio
Maps are available for inspection at Permit Central, 2275 Bauer Road, Batavia, Ohio.
Send comments to The Honorable Ted Bowling, Mayor, Village of Neville, 608 Main Street, Neville, Ohio 45156.
Village of New Richmond, Clermont County, Ohio
Maps are available for inspection at Permit Central, 2275 Bauer Road, Batavia, Ohio.
Send comments to the Honorable Terry Durette, Mayor, Village of New Richmond, 102 Willow Street, New Richmond, Ohio 45157.
Ohio River:
Approximately 0.9 mile downstream of the confluence of Norman Run | 544 | 543 | Village of Athalia, Village of Chesapeake, Village of Coal Grove, Village of Hanging Rock, City of Ironton, Village of Proctorville, Village of South Point, Lawrence County, (Unincorporated Areas).
Approximately 1.0 mile downstream of the confluence of Federal Creek | 558 | 557
Symmes Creek:
At the confluence with the Ohio River | 552 | 553 | Village of Chesapeake Lawrence County (Unincorporated Areas).
Approximately 2,400 feet downstream of the confluence of McKinney Creek | 552 | 553
Indian Guyan Creek:
Approximately 0.6 mile upstream of County Route 65 | None | 565 | Lawrence County (Unincorporated Areas).
Approximately 300 feet upstream of Township Road 126 | None | 576
Village of Athalia, Lawrence County, Ohio
Maps are available for inspection at the Community Map Repository, Village of Athalia, 14346 State Road 7, Proctorville, Ohio.
Send comments to The Honorable Ron McLintock, Mayor, Village of Athalia, 14346 State Road 7, Proctorville, Ohio 45669.
Village of Chesapeake, Lawrence County, Ohio
Maps are available for inspection at the Community Map Repository, Village of Chesapeake, Town Hall, 211 Third Avenue, Chesapeake, Ohio.
Send comments to The Honorable James Justice, Mayor, Village of Chesapeake, Town Hall, 211 3rd Avenue, Chesapeake, Ohio 45619.
Village of Coal Grove, Lawrence County, Ohio
Maps are available for inspection at the Community Map Repository, Village of Coal Grove, 513 Carlton Davidson Lane, Coal Grove, Ohio.
Send comments to Ms. Juanita Markel, Clerk-Treasurer, Village of Coal Grove, 513 Carlton Davidson Lane, Coal Grove, Ohio 45638.
Village of Hanging Rock, Lawrence County, Ohio
Maps are available for inspection at the Community Map Repository, Village of Hanging Rock, 100 Scioto Avenue, Hanging Rock, Ohio.
Send comments to The Honorable Wayne Pennington, Mayor, Village of Hanging Rock,100 Scioto Avenue, Hanging Rock, Ohio 45638.
City of Ironton, Lawrence County, Ohio
Maps are available for inspection at the Community Map Repository, City of Ironton, 301 South 3rd Street, Ironton, Ohio.
Send comments to The Honorable Bob Cleary, Mayor, City of Ironton, 301 South 3rd Street, Ironton, Ohio 45638-0704.
Unincorporated Areas of Lawrence County, Ohio
Maps are available for inspection at the Community Map Repository, Lawrence County Floodplain Management Program, 305 North Fifth Street, Ironton, Ohio.
Send comments to Mr. George Patterson, President, Lawrence County Commissioners, 111 4th Street, Ironton, Ohio 45638.
Village of Proctorville, Lawrence County, Ohio
Maps are available for inspection at the Community Map Repository, Village of Proctorville, Village Hall, 301 State Street, Proctorville, Ohio.
Send comments to The Honorable Jim Buchanan, Mayor, Village of Proctorville, 301 State Street, Proctorville, Ohio 45669.
Village of South Point, Lawrence County, Ohio
Maps are available for inspection at the Community Map Repository, Village of South Point, 408 Second Street West, South Point, Ohio.
Send comments to The Honorable William Gaskin, Mayor, Village of South Point, 408 Second Street West, South Point, Ohio 45680.
Baughman Slough:
Approximately 415 feet upstream of the confluence with Peach Creek | None | 91 | City of Wharton Wharton County (Unincorporated Areas).
Approximately 70 feet upstream of FM 640 | None | 113 |
Caney Creek:
Just upstream of Dam 1 | None | 101 | City of Wharton Wharton County ((Unincorporated Areas).
Approximately 3,630 feet upstream of U.S. Highway 59 | 109 | 107 |
Colorado River:
Approximately 2.21 miles downstream of the confluence of Jones Creek | None | 67 | City of Wharton Wharton County (Unincorporated Areas).
Approximately 14.20 miles upstream of FM 960 | None | 138 |
Peach Creek:
Approximately 1,915 feet downstream of County Road 129 (Montgomery Road) | None | 91 | Wharton County (Unincorporated Areas).
Approximately 4.32 miles downstream of County Road 247 | None | 125 |
City of Wharton, Wharton County, Texas
Maps are available for inspection at City Hall, 120 East Caney, Wharton, Texas.
Send comments to Mr. Andres Garza, Jr., City Manager, City of Wharton, 120 East Caney, Wharton, Texas 77488.
Unincorporated Areas of Wharton County, Texas
Maps are available for inspection at the Frank Shannon Building, 1017 North Alabama Road, Wharton, Texas.
Send comments to The Honorable John Murrile, Wharton County Judge, 309 East Milam, Suite 600, Wharton, Texas 77488.

(Catalog of Federal Domestic Assistance No. 83.100, “Flood Insurance.”)
Dated: June 14, 2005.
David I. Maurstad,
Acting Director, Mitigation Division, Emergency Preparedness and Response Directorate.

[FR Doc. 05-12171 Filed 6-20-05; 8:45 am]

BILLING CODE 9110-12-P